DEPARTMENT OF TRANSPORTATION

Federal Aviation Administration

14 CFR Part 39

[Docket No. FAA-2005-20025; Directorate Identifier 2004-NM-208-AD; Amendment 39-14016; AD 2005-06-08]

RIN 2120-AA64

Airworthiness Directives; Airbus Model A330, A340-200, and A340-300 Series Airplanes

AGENCY: Federal Aviation Administration (FAA), Department of Transportation (DOT).

ACTION: Final rule.

SUMMARY: The FAA is adopting a new airworthiness directive (AD) for all Airbus Model A330, A340-200, and A340-300 series airplanes. This AD requires repetitive inspections of a certain bracket that attaches the flight deck instrument panel to the airplane structure; replacement of the bracket with a new, improved bracket; and related investigative and corrective actions if necessary. This AD is prompted by reports of cracking of a certain bracket that attaches the flight deck instrument panel to the airplane structure. We are issuing this AD to detect and correct a cracked bracket. Failure of this bracket, combined with failure of the horizontal beam, could result in collapse of the left part of the flight deck instrument panel, and consequent reduced controllability of the airplane.

DATES: This AD becomes effective April 25, 2005.

The incorporation by reference of certain publications listed in the AD is approved by the Director of the Federal Register as of April 25, 2005.

ADDRESSES: For service information identified in this AD, contact Airbus, 1 Rond Point Maurice Bellonte, 31707 Blagnac Cedex, France.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-20025; the directorate identifier for this docket is 2004-NM-208-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: The FAA proposed to amend 14 CFR Part 39 with an AD for all Airbus Model A330, A340-200, and A340-300 series airplanes. That action, published in the Federal Register on January 12, 2005 (70 FR 2067), proposed to require repetitive inspections of a certain bracket that attaches the flight deck instrument panel to the airplane structure; replacement of the bracket with a new, improved bracket; and related investigative and corrective actions if necessary.

Comments

We provided the public the opportunity to participate in the development of this AD. No comments have been submitted on the proposed AD or on the determination of the cost to the public.

Clarification of Final Rule

We have revised paragraphs (i)(3)(i) and (i)(3)(ii) to clarify that the compliance times are relative to the replacement of a certain bracket that attaches the flight deck instrument panel to the airplane structure.

Conclusion

We have carefully reviewed the available data, and determined that air safety and the public interest require adopting the AD with the changes described previously. We have determined that these changes will neither increase the economic burden on any operator nor increase the scope of the AD.

Costs of Compliance

This AD will affect about 19 Model A330 series airplanes of U.S. registry. The required inspection will take about 1 work hour per airplane, per inspection cycle, at an average labor rate of $65 per work hour. Based on these figures, the estimated cost of the AD for U.S. operators is $1,235, or $65 per airplane, per inspection cycle.

There are currently no affected Model A340-200 or -300 series airplanes of U.S. registry. However, if one of these airplanes is imported and put on the U.S. Register in the future, this cost estimate will also apply to those airplanes.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-06-08 Airbus: Amendment 39-14016. Docket No. FAA-2005-20025; Directorate Identifier 2004-NM-208-AD.

Effective Date

(a) This AD becomes effective April 25, 2005.

Affected ADs

(b) None.

Applicability

(c) This AD applies to all Airbus Model A330, A340-200, and A340-300 series airplanes; certificated in any category.

Unsafe Condition

(d) This AD was prompted by reports of cracking of a certain bracket that attaches the flight deck instrument panel to the airplane structure. We are issuing this AD to detect and correct a cracked bracket. Failure of this bracket, combined with failure of the horizontal beam, could result in collapse of the left part of the flight deck instrument panel, and consequent reduced controllability of the airplane.

Compliance

(e) You are responsible for having the actions required by this AD performed within the compliance times specified, unless the actions have already been done.

Service Bulletin Reference

(f) The term “service bulletin,” as used in this AD, means the Accomplishment Instructions of Airbus Service Bulletins A330-25-3227 (for Model A330 series airplanes); and A340-25-4230 (for Model A340-200 and -300 series airplanes); both including Appendix 01; and both dated June 17, 2004; as applicable.

Initial Inspection

(g) At the applicable time specified in paragraph (g)(1) or (g)(2) of this AD, perform a detailed inspection of the bracket having part number (P/N) F2511012920000, which attaches the flight deck instrument panel to airplane structure, in accordance with the service bulletin.

(1) For Model A330 series airplanes: Prior to the accumulation of 16,500 total flight cycles, or within 60 days after the effective date of this AD, whichever is later.

(2) For Model A340-200 and -300 series airplanes: Prior to the accumulation of 9,700 total flight cycles, or within 2,700 flight cycles after the effective date of this AD, whichever is later.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

No Cracking/Repetitive Inspections

(h) If no cracking is found during the initial inspection required by paragraph (g) of this AD: Repeat the inspection thereafter at the applicable interval specified in paragraph (h)(1) or (h)(2) of this AD.

(1) For Model A330 series airplanes: Intervals not to exceed 13,800 flight cycles.

(2) For Model A340-200 and -300 series airplanes: Intervals not to exceed 7,000 flight cycles.

Crack Found/Replacement, Reporting, and Repetitive Inspections

(i) If any cracking is found during any inspection required by paragraph (g) or (h) of this AD: Do the actions in paragraphs (i)(1), (i)(2), and (i)(3) of this AD, except as provided by paragraph (j) of this AD.

(1) Before further flight: Replace the cracked bracket with a new, improved bracket having P/N F2511012920095, in accordance with the service bulletin.

(2) Within 30 days after performing the inspection, or within 30 days after the effective date of this AD, whichever is later: Report the cracked fitting to Airbus, Department AI/SE-A21, 1 Rond Point Maurice Bellonte, 31707 Blagnac Cedex, France. The report must include the airplane serial number, the number of flight cycles and flight hours on the airplane, the date of the inspection, and whether both flanges of a bracket are broken. Submitting Appendix 01 of the applicable service bulletin is acceptable for compliance with this paragraph. Under the provisions of the Paperwork Reduction Act of 1980 (44 U.S.C. 3501 et seq.), the Office of Management and Budget (OMB) has approved the information collection requirements contained in this AD and has assigned OMB Control Number 2120-0056.

(3) Inspect the replaced bracket at the time specified in paragraph (i)(3)(i) or (i)(3)(ii) of this AD. Then, do repetitive inspections or replace the bracket as specified in paragraph (h) or (i) of this AD, as applicable.

(i) For Model A330 series airplanes: Within 16,500 flight cycles after replacing the bracket.

(ii) For Model A340-200 and -300 series airplanes: Within 9,700 flight cycles after replacing the bracket.

(j) If both flanges of a bracket are broken: Before further flight, replace the bracket as specified in paragraph (i)(1) and perform any applicable related investigative and corrective actions (which may include inspections for damage to surrounding structure caused by the broken bracket, and corrective actions for any damage that is found), in accordance with a method approved by the Manager, International Branch, ANM-116, Transport Airplane Directorate, FAA; or the Direction Générale de l'Aviation Civile (DGAC) (or its delegated agent).

Alternative Methods of Compliance (AMOCs)

(k) The Manager, International Branch, ANM-116, has the authority to approve AMOCs for this AD, if requested in accordance with the procedures found in 14 CFR 39.19.

Related Information

(l) French airworthiness directives F-2004-140 and F-2004-141, both dated August 18, 2004, also address the subject of this AD.

Material Incorporated by Reference

(m) You must use Airbus Service Bulletin A330-25-3227, including Appendix 01, dated June 17, 2004; or Airbus Service Bulletin A340-25-4230, including Appendix 01, dated June 17, 2004; as applicable; to perform the actions that are required by this AD, unless the AD specifies otherwise. The Director of the Federal Register approves the incorporation by reference of these documents in accordance with 5 U.S.C. 552(a) and 1 CFR part 51. For copies of the service information, contact Airbus, 1 Rond Point Maurice Bellonte, 31707 Blagnac Cedex, France. For information on the availability of this material at the National Archives and Records Administration (NARA), call (202) 741-6030, or go to: http://www.archives.gov/federal_register/code_of_federal_regulations/ibr_locations.html.

You may view the AD docket at the Docket Management Facility, U.S. Department of Transportation, 400 Seventh Street SW, room PL-401, Nassif Building, Washington, DC.

Issued in Renton, Washington, on March 8, 2005.
Ali Bahrami,
Manager, Transport Airplane Directorate, Aircraft Certification Service.

[FR Doc. 05-5297 Filed 3-18-05; 8:45 am]

BILLING CODE 4910-13-P